DEPARTMENT OF COMMERCE

National Oceanic and Atmospheric Administration

Announcement of Delaware National Estuarine Research Reserve Revised Management Plan Including a Boundary Expansion

AGENCY: Estuarine Reserves Division, Office of Ocean and Coastal Resource Management, National Ocean Service, National Oceanic and Atmospheric Administration, U.S. Department of Commerce.

ACTION: Notice of approval and availability of the final revised management plan for the Delaware National Estuarine Research Reserve.

SUMMARY: Notice is hereby given that the Estuarine Reserves Division, Office of Ocean and Coastal Resource Management, National Ocean Service, National Oceanic and Atmospheric Administration (NOAA), U.S. Department of Commerce has approved the revised management plan, which includes an expansion of the boundary of the reserve, for the Delaware National Estuarine Research Reserve.

The Delaware Reserve was designated in 1993, pursuant to Section 315 of the Coastal Zone Management Act of 1972, as amended, 16 U.S.C. 1461. The reserve has been operating under a management plan approved in 1993. Pursuant to 15 CFR 921.33(c), a state must revise their management plan every five years. The submission of this plan fulfills this requirement and sets a course for successful implementation of the goals and objectives of the reserve.

The Delaware National Estuarine Research Reserve is administered in partnership with the Delaware Department of Natural Resources and Environmental Control. The reserve consists of two component sites that are located thirty miles apart. These components include both brackish and freshwater estuaries and represent the diverse estuarine ecosystems found throughout the Mid-Atlantic region. The Upper Blackbird Creek site in New Castle County is a low salinity brackish or freshwater system that is located in a rural area. The Lower St. Jones River site in Kent County is located just south of the state capital and represents a more saline estuary that has experienced greater impacts from the surrounding development. These diverse settings provide an ideal opportunity to study anthropogenic impacts to natural estuarine and coastal systems and to convey information about the importance of estuarine habitats and functions to the citizens of Delaware.

The mission of the reserve is to preserve and manage the natural resources within the two reserve components for research, to provide education and outreach programs that promote better understanding of Delaware's estuarine and coastal areas, and to promote informed coastal decisionmaking. Goals and objectives to advance this mission are identified within the management plan for administration; facilities and construction; public access; education, interpretation and outreach; environmental research and monitoring; and stewardship.

Administrative goals for the Delaware Reserve include increasing volunteer activities; coordinating with partners to promote science based management; and ensuring that education, research, monitoring, and land management efforts are supported with staff, facilities and operational necessities. Facilities that were constructed over the past three years at the St. Jones component site will be maintained for reserve and for community and partner use.

Education, interpretation and outreach efforts will focus on enhancing public understanding of the function of estuaries and promoting the wise use of estuarine resources to encourage an environmental ethic. Programs for the public, for students, teachers, and coastal decisionmakers will be offered and exhibits at the visitor center will be maintained and updated as needed. The reserve education program will continue to improve the use of Web based tools and public events to promote increased estuarine awareness among target audiences and the general public.

The Delaware reserve's research and monitoring program will focus on anthropogenic impacts that contribute to habitat degradation or loss. The reserve research and monitoring goals are to identify the various types, quality, and quantity of habitats available in the estuary to facilitate proper management and protection; and to identify, monitor, and limit the anthropogenic impacts to the estuarine system. Specifically, the reserve will develop an on site library of reference materials and data; collect baseline data and build a database for use in long term studies; promote the use of the reserve within the research community in the study of anthropogenic changes; disseminate important research and monitoring results about Delaware estuaries to key decisionmakers and the scientific community; and increase monitoring.

Habitat protection and restoration efforts over the next five years will address controlling invasive species, developing best management practices for agricultural lands surrounding the reserve, monitoring land use decisions within the reserve watershed, and developing conservation plans for all reserve owned property.

One hundred and forty seven privately held acres adjacent to the Upper Blackbird Creek component were acquired by the reserve in 2004. Obtaining land adjacent to the Blackbird Creek will ensure that researchers have adequate access to the natural resources of the reserve and will add woodland, marsh and open field upland habitats to this component site. The management plan incorporates the land into the reserve boundary and outlines a plan to phase in public access, education programming, and restoration activities on the new property.

FOR FURTHER INFORMATION CONTACT: Cory Riley at (301) 563-7222 or Laurie McGilvray at (301) 563-1158 of NOAA's National Ocean Service, Estuarine Reserves Division, 1305 East-West Highway, N/ORM5, 10th floor, Silver Spring, MD 20910.

Dated: May 27, 2005.
Mitchell Luxenberg,
Acting Director, Management and Budget, National Ocean Service, National Oceanic and Atmospheric Administration.

[FR Doc. 05-10984 Filed 6-1-05; 8:45 am]

BILLING CODE 3510-08-P